DEPARTMENT OF VETERANS AFFAIRS

VA Prevention of Fraud, Waste, and Abuse Advisory Committee; Notice of Meeting

The Department of Veterans Affairs (VA) gives notice under the Federal Advisory Committee Act, that the VA Prevention of Fraud, Waste, and Abuse Advisory Committee will meet virtually on July 19, 2018 from 9:00 a.m. until 12:00 p.m. (EST). The toll-free telephone number for this meeting is (844) 825-8490, access code: 332244674#. Note: The telephone line will be muted except for the Committee and VA Executives. This meeting will be open the the public.

The purpose of the Committee is to advise the Secretary, through the Assistant Secretary for Management and Chief Financial Officers, on matters relating to improving and enhancing VA's efforts to identify, prevent, and mitigate fraud, waste, and abuse across VA in order to improve the integrity of VA's payments and the efficiency of its programs and activities.

The agenda will include detailed discussions on Committee recommendations surrounding VA's community care programs.

No time will be allocated at this meeting for receiving oral presentations from the public. Members of the public may submit written statements for the Committee's review to Karida Palmer via email at PFWAAC2@va.gov.

Dated: June 7, 2018.
Jelessa M. Burney,
Federal Advisory Committee Management Officer.

[FR Doc. 2018-12561 Filed 6-11-18; 8:45 am]

BILLING CODE P